DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) # Depth in feet above ground modified | Communities affected
Clayton County, Georgia and Incorporated Areas
Docket No.: FEMA-B-7469
Beaver Dam Creek | Approximately 1,500 feet upstream of the confluence with Flint River | +797 | Clayton County (Unincorporated Areas).
| Approximately 2,500 feet upstream of the confluence with Flint River | +797 |
East Tributary of Jester Creek | At the confluence with West Tributary Jester Creek | +933 | City of Forest Park.
| Approximately 260 feet upstream of the confluence with West Tributary Jester Creek | +933 |
Flint River Tributary | Approximately 570 feet upstream of the confluence with Flint River | +843 | Clayton County (Unincorporated Areas).
| Approximately 1,250 feet upstream of the confluence with Flint River | +844 | City of Riverdale.
Hurricane Creek | Approximately 60 feet downstream of Turner Road | +784 | Clayton County (Unincorporated Areas).
| Approximately 350 feet upstream of Turner Road | +784 |
Jester Creek | Approximately 200 feet upstream of the confluence with Flint River | +816 | Clayton County (Unincorporated Areas).
| Approximately 60 feet upstream of Tara Boulevard/U.S. Highway 41/19/State Highway 3C | +816 |
Lake Spivey | Entire shoreline | +786 | Clayton County (Unincorporated Areas).
Mud Creek | At confluence with Flint River | +838 | Clayton County (Unincorporated Areas).
| Approximately 850 feet downstream of Ashmore Drive | +841 |
Panther Creek | Approximately 3,660 feet downstream of State Highway 413/Interstate Highway 675 | +750 | Clayton County (Unincorporated Areas).
| Approximately 2,220 feet downstream of State Highway 413/Interstate Highway 675 | +751 |
Sullivan Creek | At the confluence with Flint River | +859 | Clayton County (Unincorporated Areas).
| Approximately 1,000 feet upstream of the confluence with Flint River | +860 |
Upton Creek | Approximately 50 feet upstream of Double Bridge Road | +803 | Clayton County (Unincorporated Areas).
| Approximately 2,325 feet upstream of Double Bridge Road | +806 |
West Tributary of Jester Creek | At the confluence with Jester Creek | +924 | City of Forest Park.
| Approximately 320 feet upstream of confluence with Jester Creek | +924
* National Geodetic Vertical Datum.
# Depth in feet above ground.
+ North American Vertical Datum.
ADDRESSES
Clayton County (Unincorporated Areas)
Maps are available for inspection at Clayton County Transportation and Development Department, 7960 North McDonourgh Street, Jonesboro, Georgia.
City of Forest Park
Maps are available for inspection at City of Forest Park Public Works Department, 5230 Jones Road, Forest Park, Georgia.
City of Riverdale
Maps are available for inspection at Riverdale Community Department, 971 Wilson Road, Riverdale, Georgia.
Muscogee County, Georgia (Consolidated Government)
Docket No.: FEMA-B-7469
Califon Creek | At the confluence with Lower Bull Creek | +228 | City of Columbus—Muscogee County.
| Approximately 400 feet upstream of Benning Drive. | +228 | (Consolidated Government).
Lindsey Creek | At the confluence with Lower Bull Creek | +242 | City of Columbus—Muscogee County.
| Approximately 440 feet upstream of Morris Road | +242 | (Consolidated Government).
Lower Bull Creek | At the confluence with Chattahoochee River | +228 | City of Columbus—Muscogee County.
| Approximately 850 feet upstream of Cusseta Road | +228 | (Consolidated Government).
Upper Bull Creek | Just upstream of Flood Control Dam No. 1 | +404 | City of Columbus—Muscogee County.
| Approximately 2,660 feet upstream Alternate U.S. Highway 27/State Highway 85 | +405 | (Consolidated Government).
Weracoba Creek | At the confluence with Lower Bull Creek | +228 | City of Columbus—Muscogee County.
| At U.S. Highway 27/Victory Drive | +228 | (Consolidated Government).
* National Geodetic Vertical Datum.
# Depth in feet above ground.
+ North American Vertical Datum.
ADDRESSES
City of Columbus
Maps are available for inspection at the Department of Engineering, 420 Tenth Street, Second Floor, Columbus, Georgia.
Newton County, Georgia and Incorporated Areas
Docket No.: FEMA-B-7469
Town Branch (Rogers Branch) | Approximately 200 feet upstream of confluence with Dried Indian Creek | +662 | City of Covington.
| Approximately 710 feet downstream of Rebecca Street. | +662 |
* National Geodetic Vertical Datum.
# Depth in feet above ground.
+ North American Vertical Datum.
ADDRESSES
City of Covington
Maps are available for inspection at 2194 Emory Street NW, Covington, Georgia.
Walker County, Georgia, and Incorporated Areas
Docket No.: FEMA-B-7473
Andrews Street Tributary | At confluence with Tributary to Chattanooga Creek | +690 | City of Rossville.
| Approximately 35 feet upstream of confluence with Tributary to Chattanooga Creek | +690 |
* National Geodetic Vertical Datum.
# Depth in feet above ground.
+ North American Vertical Datum.
ADDRESSES
City of Rossville, Walker County, Georgia
Maps are available for inspection at Rossville City Government, 220 Ellis Road, Rossville, Georgia 30741.
Kemper County, Mississippi, and Incorporated Areas
Docket No.: FEMA-B-7471
Hull Branch | Approximately 10,360 feet upstream of Old Jackson Road | +336 | Kemper County (Unincorporated Areas).
| At the confluence of Snoody Creek | +383 |
Okatibbe Creek | Approximately 2,340 feet upstream of Bull Swamp Road | +374 | Kemper County (Unincorporated Areas).
| At the confluence with Houston Creek | +408 |
Snoody Creek | At the confluence with Hull Branch | +327 | Town of De Kalb.
| Approximately 2,290 feet downstream of State Road 39 | +336 | Kemper County (Unincorporated Areas).
* National Geodetic Vertical Datum.
# Depth in feet above ground.
+North American Vertical Datum.
ADDRESSES
Kemper County (Unincorporated Areas)
Maps are available for inspection at Kemper County Courthouse, 100 Main Street, De Kalb, MS 39328.
Town of De Kalb
Maps are available for inspection at Kemper County Courthouse, 100 Main Street, De Kalb, MS 39328.

(Catalog of Federal Domestic Assistance No. 83.100, “Flood Insurance.”)

Dated: March 16, 2007.
David I. Maurstad,
Director, Mitigation Division, Federal Emergency Management Agency, Department of Homeland Security.

[FR Doc. E7-5613 Filed 3-27-07; 8:45 am]

BILLING CODE 9110-12-P